SECURITIES AND EXCHANGE COMMISSION

[OMB Control No. 3235-0132]

Agency Information Collection Activities; Submission for OMB Review; Comment Request; Extension: Trust Indenture Act Rules 7a-15 Through 7a-37

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Rules 7a-15 through 7a-37 (17 CFR 260.7a-15 through 260.7a-37) under the Trust Indenture Act of 1939 (15 U.S.C. 77aaa et seq.) set forth the general requirements as to form and content of applications, statements, and reports that must be filed under the Trust Indenture Act. The respondents are persons and entities subject to the requirements of the Trust Indenture Act. Trust Indenture Act Rules 7a-15 through 7a-37 are disclosure guidelines and do not directly result in any collection of information. The rules are assigned only one burden hour for administrative convenience.

An agency may not conduct or sponsor, and a person is not required to respond to, a collection of information unless it displays a currently valid OMB Control Number.

The public may view and comment on this information collection request at: https://www.reginfo.gov/public/do/PRAViewICR?ref_nbr=202511-3235-001 or send an email comment to MBX.OMB.OIRA.SEC_desk_officer@omb.eop.gov within 30 days of the day after publication of this notice by March 16, 2026.

Dated: February 10, 2026.
Sherry R. Haywood,
Assistant Secretary.

[FR Doc. 2026-02862 Filed 2-11-26; 8:45 am]

BILLING CODE 8011-01-P